DEPARTMENT OF AGRICULTURE

Forest Service

B-Line Phase III (Sewer Export Pipeline Replacement), Lake Tahoe Basin Management Unit (LTBMU), El Dorado County, California; Notice of Intent

AGENCY: Forest Service, USDA.

ACTION: Notice of intent to prepare environmental impact statement.

SUMMARY: The USDA Forest Service will prepare an environmental impact statement (EIS) to address whether or not to authorize the South Tahoe Public Utility District to construct Phase III of the B-Line Export Pipeline. This project would complete the replacement of the original effluent export pipeline that runs from South Lake Tahoe, CA to the Tahoe Basin boundary.

DATES: The public is asked to provide any additional information they believe the Forest Service may still not have at this time and to submit any issues (points of concern, debate, dispute or disagreement) regarding potential effects of the proposed action or alternatives by January 15, 2002.

ADDRESSES: Send written comments to Michael Rhoades, Associate Planner, Tahoe Regional Planning Agency, P.O. Box 1038, Zephyr Cove, NV 89448. Telephone: 775/588-4547, Fax: 775/588-4527, E-mail: mrhoades@trpa.org.

FOR FURTHER INFORMATION CONTACT: Michael Rhoades at the above address.

Decision to be Made: The Forest Supervisor will decide whether or not to authorize construction of the proposed pipeline and if so which route the new pipeline will follow.

Purpose and Need: The South Tahoe Public Utility District's owns and operates an effluent export system that pumps treated effluent from the District's wastewater treatment plant in South Lake Tahoe to the Harvey Place Reservoir in Alpine County, CA. The original force main was installed in 1969/70 and utilized steel pipe that was installed using poorly monitored construction techniques. Problems developed soon after the installation was completed, and have continued as the line has aged. The existing pipeline is no longer reliable. Leaks and breaks in the existing line sometimes occur.

Proposed Action: Authorize the South Tahoe Public Utility District (District) to construct Phase III of the B-Line Export Pipeline Replacement. The proposed action and alternatives are described in greater detail below.

Lead Agencies: The USDA Forest Service will serve as lead agency under the National Environmental Policy Act (NEPA). The Tahoe Regional Planning Agency (TRPA) will serve as lead agency under the TRPA rules of procedure (Ordinances Chapter 5). The South Tahoe Public Utility District will serve as the lead agency under the California Environmental Quality Act (CEQA). The U.S. Environmental Protection Agency will work closely with the Forest Service under NEPA. Implementation of the proposal would require permits from TRPA, the California Regional Water Quality Control Board Lahontan Region and the Forest Service.

Scoping: The planning for this project is being coordinated by the three lead agencies. The environmental documents will be drafted to meet the requirements of NEPA, CEQA and TRPA. Scoping meetings are being held before the TRPA Advisory Planning Commission on December 12, 2001 and the Governing Board on December 19, 2001. The CEQA/TRPA Notice of Preparation request comments by December 30, 2001. The Forest Service is requesting Scoping comments by January 15, 2002.

Response Time: Please send your comments no later than January 15, 2001 to Michael Rhoades, Associate Planner,—Tahoe Regional Planning Agency,—PO Box 1038,—Zephyr Cove, NV 89448. Telephone: 775/588-4547, Fax: 775/588-4527, E-mail: mrhoades@trpa.org.

FOR FURTHER INFORMATION: Contact Michael Rhoades at the address or telephone number provided above.

SUPPLEMENTARY INFORMATION:

Project Name and Description and Background

The South Tahoe Public Utility District's (District) owns and operates an effluent export system that pumps treated effluent from the District's wastewater treatment plant in South Lake Tahoe to the Harvey Place Reservoir in Alpine County, CA. The export system is divided into three segments, the A-Line, B-Line, and C-Line. The B-Line consists of the portion of the pipeline between the Luther Pass Pump Station and the top of Luther Pass where the force main breaks to gravity. The original force main was installed in 1969/70 and utilized steel pipe that was installed using poorly monitored construction techniques. Problems developed soon after the installation was completed, and have continued as the line has aged. Construction is currently being completed on the reach that extends from the 1980 replacement to the gravity break at Luther Pass (approximately 9,982 lineal feet known as B-Line Phase II). The current proposal will extend from the Luther Pass Pump Station to the middle of the Forest Service campground (where the Phase I replacement began) and will result in the complete replacement of the original B-Line pipeline. The proposal is to authorize the District to construct Phase III of the B-Line Export Pipeline. The project includes the construction of a new effluent export pipeline between the Luther Pass Pump Station and the project's terminus within the campground east of State Route 89. This segment of the B-Line pipeline is located approximately 3.5 miles south of Meyers, CA. The project would consist of a pressurized 24-inch-diameter pipeline placed below ground level. The pipeline trench would be a minimum of 7 feet deep and approximately four to six feet wide, depending upon soil conditions. The 24-inch diameter pipeline replaces an existing 20-inch diameter pipeline. Following replacement, the existing pipeline would be abandoned in place.

The pipeline would be constructed using excavators and rubber-tired loaders, with the steel pipe welded onsite. The welding and coating activity would take place adjacent to and above the trench. Following welding and pipeline coating activities, the pipe segments (up to 1,000 feet in length) would be placed into the trench. Due to the need to conduct welding along side the pipeline trench, all ground vegetation will need to be removed within the immediate trench corridor to avoid the risk of wild fire. The proposed widths for the construction corridor are provided below.

Within the campground road, an option exists to use a rock-trencher for trenching activities. The benefit of using a rock-trencher is that it requires a narrower construction corridor than traditional construction methods (vehicles can work front to back rather than side by side). However, the rock trencher is much heavier than an excavator or other rubber-tired equipment and requires a more stable base from which to operate.

A 50-foot-wide temporary construction easement has been requested by the District for the pipeline construction within forested areas. Within the 50-foot easement, a 25-foot-wide construction corridor will be established to allow construction of the trench. Within the 25-foot-wide construction corridor, trees, surface vegetation and top soil would either be removed or significantly disturbed by construction equipment. The trench does not need to be centered within this corridor, rather the corridor can be shifted to allow for significant trees and rock outcrops to be preserved. However, 25-feet is the minimum clearance area needed for construction of the pipeline. Adjacent to the 25-foot corridor, and within the 50-foot temporary easement, tree removal would only occur if approved beforehand by the Forest Service and TRPA. Within this portion of the easement, disturbance would occur from construction equipment access and material storage. Following construction, the 50-foot construction easement and any adjacent soil disturbance caused by construction activities will be revegetated pursuant to Forest Service and TRPA approved plans.

Pipeline Replacement Alternatives A and B (described below) would cross Highway 89 in one location. At the crossing locations, project construction activities would be timed to avoid the simultaneous closure of both travel lanes on Highway 89. Delays due to lane closure shall not exceed 30 minutes. Open trenches in Highway 89 would be backfilled or covered with non-skid plates during times when construction activities are stopped.

Pipeline Replacement Alternative C would follow Highway 89 from its intersection with Grass Lake Road to the intersection with the campground road. Within this corridor, 24-hour lane closures would be required seven days a week, including the use of “K” rail to separate construction activities from the open travel lane. Blasting would be required for trenching within the right-of-way. During blasting activities, traffic would be held in both directions.

To prevent erosion and discharge into down-slope drains or low lying drainages, pipeline trench erosion control practices shall be used. Erosion control practices would require filter fabric fencing down slope of construction activities. No erosion or runoff shall be allowed to reach any adjacent creeks. Under alternatives B and C, the pipeline will cross Grass Lake Creek. In these locations, more detailed erosion control and restoration plans will be required to ensure adequate diversion of the creek flows during pipeline construction. The pipeline will cross Grass Lake Creek in two of the three action alternatives (Alternatives B and C). One of the creek crossings would occur in an undisturbed area to the north of the South Upper Truckee Road (Alternative B). At this creek crossing location, the project would require the construction of a temporary roadway to facilitate equipment access. The creek will be temporarily diverted using pumps or placed in a culvert under the temporary roadway during construction. After construction is completed, the roadway material will be removed and the creek will be restored to pre-project conditions. Two other creek crossings would occur within Highway 89 for Alternative C and within the campground road for Alternatives B and C. In both locations, the creek flows through a culvert. The Highway 89 crossing would occur within the roadway prism and above the existing box culvert. The campground road crossing would also occur within the roadway prism, but could either be constructed underneath or above the existing corrugated metal pipe (cmp). Construction of the pipeline underneath the cmp would require removal and replacement of the culvert. Construction of the pipeline above the cmp would avoid effects to the cmp but would require raising the road grade.

It is anticipated that some groundwater will be intercepted during trenching activities. In order to prevent the discharge of trench waters, water collected from dewatering operations shall be disposed as follows: (1) Water from the pipeline trench will be pumped into a settling tank or water trucks with sufficient volume to handle projected water quantities, (2) water will be decanted from the settling tanks or trucks for use as construction water during backfilling operations, (3) settled water will be taken to the Luther Pass summit and placed in the gravity export pipeline (C-Line) that flows to the Harvey Place reservoir, or (4) settled water will be placed in the sanitary sewer in Grass Lake Road.

The South Upper Truckee Road is proposed for temporary material stockpiling and equipment staging. To use the roadway for material stockpiling and staging, the District will request its closure. This roadway is under the control of the El Dorado County Department of Transportation. The proposed closure would be located between Highway 89 and the roadway's crossing of the Upper Truckee River (west of Highway 89). Stockpile areas will be surrounded by filter fabric fencing, and covered with plastic sheeting prior to storm events. Historic trail resources adjacent to the roadway will be protected by temporary construction fencing.

To protect trees within the 50-foot construction easement (outside of the 25-foot construction corridor), vegetation protection fencing will be installed around every live tree or group of trees greater than 6 inches dbh. In addition, no tree roots greater than 1.5 inches in diameter shall be cut without the prior authorization of the Forest Service and TRPA. In situations where tree roots greater than 1.5 inches must be cut, the contractor shall treat the roots in accordance with standard practices. All areas disturbed by construction activity shall be revegetated. The revegetation shall be with a matching seed mix to restore the loss of vegetation that will result from pipeline construction. A goal of vegetation/site restoration following construction shall be to ensure that the pipeline corridor does not become a new trail for recreational bicyclists.

Groundwater channeling would be minimized by using an aggregate (Class 2) fill for the pipeline bedding zone (this zone is the area 6 inches under the pipeline to one foot above the pipeline). Any excavated soils that are wet require air drying to proper moisture content or mixing with drier soils prior to being used as compacted backfill. In addition, the installation of trench cutoff walls or “coffer dams” is proposed in areas where high groundwater and the slope of the terrain would dictate that groundwater channeling is a probability.

During pipeline trenching, field inspections of the trenches would be performed to make final determinations regarding the need for cutoff walls to control potential high groundwater flows. During construction, the pipeline will be pressure tested at 2,000 foot intervals. The pressure testing will be performed using potable water. At the conclusion of construction, the entire segment of new pipeline will be tested before it is placed into operation.

The construction of the pipeline must comply with TRPA's standard conditions of approval and the Handbook of Best Management Practices (BMPs) Standards. The use of BMPs will be documented in a Stormwater Pollution Prevention Plan (SWPPP) prepared for approval by CA. Regional Water Quality Ccontrol Board, Lahontan Region. The purpose of the SWPPP is to provide a site-specific plan for preventing storm water pollution caused by construction activities, including land disturbance. The SWPPP will be designed to comply with the federal requirements to achieve compliance with the effluent limits and receiving water objectives set forth in the California General NPDES Permit for Discharges of Storm Water Associated with Construction Activities through implementation of BMPs. The SWPPP will be implemented concurrent with the commencement of construction activities.

Alternatives: Four alternatives have been identified for further study in the STPUD B-Line Phase III Export Pipeline Replacement Project EIR/EIS. Alternative A—Parallel Existing Pipeline Alignment would parallel the existing pipeline alignment through National Forest lands from the Luther Pass Pump Station to the project's terminus in the Forest Service campground. However, the pipeline would not use the existing pipeline's trench because it would still be in operation during construction. The pipeline would parallel the existing pipeline with at least 50 feet of separation from the existing pipeline to avoid damage during construction activities, such as blasting. This alternative would be approximately 4,400 feet in length. Alternative B—Proposed Action would begin at the Luther Pass Pump Station and end within the Forest Service campground at a connection with the B-Line Phase I replacement project. The total length of the proposed action is approximately 5,900 feet. The proposed action would begin at the pump station, generally follow the hillside contours to the south, cross Grass Lake Creek, cross South Upper Truckee Road twice, continue on to Highway 89, cross Highway 89, follow the campground access road, and end at the terminus of the B-Line Phase I replacement project that was constructed in 1996. Alternative C—Parallel Existing Roadways would follow existing roadway rights-of-way. This alternative would use Grass Lake Road to the intersection of Highway 89. At the intersection of Grass Lake Road and Highway 89, the alternative would follow Highway 89 south to the campground access road. At this intersection, Alternative C would follow the same route as Alternative B to the project's terminus. This alternative would be approximately 16,000 feet in length. Approximately 8,700 feet of the pipeline alignment would be located within Highway 89. Of this total, approximately 60 percent (5,200 feet) would have to be located inside the fog line of the highway (within the roadway pavement). Due to the pipeline's length, additional storage capacity may be needed at the Luther Pass Pump Station to allow for the draining of the pipeline during maintenance operations. This additional storage capacity would require construction of a third storage tank, or enlargement of an existing tank. As a sub-alternative to Alternative C, the Luther Pass Pump Station may be relocated to a location near the intersection of Grass Lake Road and Highway 89. Alternative D—No Project/No Action would maintain the existing pipeline that was constructed in 1969. While no immediate action would occur, the continued use of the existing pipeline will increase the chances of a pipeline break. Pipeline breaks require immediate repair by the District.

Commenting: The draft environmental impact statement is expected to be available for public review and comment in May 2002. The comment period on the draft statement will be at least 45 days from the date of availability published in the Federal Register by the Environmental Protection Agency. The final environmental impact statement and its Record of Decision is expected in October 2002.

The Forest Service believes, at this early stage, it is important to give reviewers notice of several court rulings related to public participation in the environmental review process. First, reviewers of draft EIS's must structure their participation in the environmental review of the proposal so that it is meaningful and alerts an agency to the reviewer's position and contentions. Vermont Yankee Nuclear Power Corp. v. NRDC, 435 U.S. 519, 553 (1978). Also, environmental objections that could be raised at the draft EIS stage but that are not raised until after completion of the final EIS may be waived or dismissed by the courts. City of Angoon v. Hodel, 803 F.2d 1016, 1022 (9th Circut, 1986) and Wisconsin Heritages, Inc. v. Harris, 490 F. Supp. 1334, 1338 (E.D. Wis. 1980). Because of these court rulings, it is very important that those interested in this proposed action participate by the close of the comment period so that substantive comments and objections are made available to the Forest Service at a time when it can meaningfully consider them and respond to them in the final EIS. To assist the Forest Service in identifying and considering issues and concerns on the proposed action, comments should be as specific as possible. It is helpful if comments refer to specific pages or chapters of the draft statement. Comments may also address the adequacy of the draft EIS or the merits of the alternatives formulated and discussed in the statement. Reviewers may wish to refer to the Council on Environmental Quality Regulations for implementing the procedural provisions of the National Environmental Policy Act at 40 CFR 1503.3 in addressing these points. The decision will be appealable under applicable Forest Service regulations.

Dated: December 7, 2001.
Maribeth Gustafson,
Forest Supervisor.

[FR Doc. 01-30860 Filed 12-13-01; 8:45 am]

BILLING CODE 3410-11-P